DEPARTMENT OF LABOR

Occupational Safety and Health Administration

[Docket No. ICR 1218-0200(2006)]

Process Safety Management of Highly Hazardous Chemicals Standard; Extension of the Office of Management and Budget's (OMB) Approval of Information Collection (Paperwork) Requirements

AGENCY: Occupational Safety and Health Administration (OSHA), Labor.

ACTION: Request for public comment.

SUMMARY: OSHA solicits public comment concerning its request for an extension of the information collection requirements specified by its Process Safety Management of Highly Hazardous Chemicals Standard (29 CFR 1910.119).

DATES: Comments must be submitted by the following dates:

Hard copy: Your comments must be submitted by March 31, 2006.

Facsimile and electronic transmission: Your comments must be received by March 31, 2006.

ADDRESSES: You may submit comments, identified by OSHA Docket No. ICR-1218-0200(2006), by any of the following methods:

Regular mail, express delivery, hand delivery, and messenger service: Submit your comments and attachments to the OSHA Docket Office, Room N-2625, U.S. Department of Labor, 200 Constitution Avenue, NW., Washington, DC 20210; telephone (202) 693-2350 (OSHA's TTY number is (877) 889-5627). OSHA Docket Office and Department of Labor hours are 8:15 a.m. to 4:45 p.m., e.t.

Facsimile: If your comments are 10 pages or fewer in length, including attachments, you may fax them to the OSHA Docket Office at (202) 693-1648.

Electronic: You may submit comments through the Internet at http://ecomments.osha.gov. Follow instructions on the OSHA Web page for submitting comments.

Docket: For access to the docket to read or download comments or background materials, such as the complete Information Collection Request (ICR) (containing the Supporting Statement, OMB-83-I Form, and attachments), go to OSHA's Web page at http://www.OSHA.gov. In addition, the ICR, comments and submissions are available for inspection and copying at the OSHA Docket Office at the address above. You may also contact Theda Kenney at the address below to obtain a copy of the ICR. For additional information on submitting comments, please see the “Public Participation” heading in the SUPPLEMENTARY INFORMATION section of this document.

FOR FURTHER INFORMATION CONTACT: Theda Kenney or Todd Owen, Directorate of Standards and Guidance, OSHA, Room N-3609, 200 Constitution Avenue, NW., Washington, DC 20210, telephone: (202) 693-2222.

SUPPLEMENTARY INFORMATION:

I. Background

The Department of Labor, as part of its continuing effort to reduce paperwork and respondent (i.e., employer) burden, conducts a preclearance consultation program to provide the public with an opportunity to comment on proposed and continuing information collection requirements in accordance with the Paperwork Reduction Act of 1995 (PRA-95) (44 U.S.C. 3506(c)(2)(A)). This program ensures that information is in the desired format, reporting burden (time and costs) is minimal, collection instruments are clearly understood, and OSHA's estimate of the information collection burden is accurate. The Occupational Safety and Health Act of 1970 (the Act) (29 U.S.C. 651 et seq.) authorizes information collection by employers as necessary or appropriate for enforcement of the Act or for developing information regarding the causes and prevention of occupational injuries, illnesses, and accidents (29 U.S.C. 657).

The collections of information in the Standard are necessary for implementation of the requirements of the standard. The information is used by employers to assure that processes using highly hazardous chemicals with the potential of a catastrophic release are operated as safely as possible. The employer must thoroughly consider all facets of a process, as well as the involvement of employees in that process. Employers analyze processes so that they identify and control problems that could lead to a major release, fire, or explosion. The following sections describe who uses the information collected under each requirement, as well as how they use it.

(A) Employee Participation (paragraph (c)). Employers are required by paragraph (c)(1) to develop a written plan of action regarding the implementation of the employee participation required by this paragraph. Paragraph (c)(2) requires employers to consult with employees and their representatives on the conduct and development of process hazard analyses and on the development of the other elements of process safety management in the Standard. Under paragraph (c)(3) employers must provide access to process hazard analyses to employees and their representatives.

(B) Process Safety information (paragraph (d)). Paragraph (d) requires employers to complete a compilation of written process safety information prior to conducting a process hazard analysis. The compilation of written process safety information, which includes information on the hazards of chemicals, the technology of the process, and the equipment is to enable the employer and employees involved in operating the process to identify and understand the hazards posed by processes involving highly hazardous chemicals.

(C) Process Hazard Analysis (paragraph (e)(1)). Paragraph (e)(1) requires the employer to perform an initial process hazard analysis on processes covered by the Standard. The evaluation must be appropriate to the complexity of the process and must identify, evaluate, and control the hazards involved in the process.

(D) Resolution of Hazards (paragraph (e)(5)). Paragraph (e)(5) requires documentation of the actions the employer takes to resolve the findings and recommendations of the team that performed the process hazard analysis, including a schedule for completing these actions. In addition, the employer is to communicate this information to affected operating, maintenance, and other employees whose work assignments are in the process.

(E) Updating, Revalidating, and Retaining the Process Hazard Analysis (paragraphs (e)(6) and (e) (7)). Paragraph (e)(6) requires that the initial process hazard analysis be updated and revalidated by a team at least every 5 years. Paragraph (e)(7) requires the employer to retain process hazard analyses for each process covered by this section, as well as the documented resolution of recommendations described in paragraph (e)(5).

(F) Operating Procedures (paragraphs (f)(1)-(f)(4)). Paragraph (f)(1) requires the employer to develop and implement written operating procedures that provide clear instructions for safely conducting activities involved in each covered process consistent with the process safety information. Paragraph (f)(2) requires the employer to make the operating procedures readily accessible to employees who work in or maintain a process. Paragraph (f)(3) requires the employer to review the operating procedures as often as necessary to assure that they reflect current operating practice, and that the employer certify annually that these operating procedures are current and accurate. Paragraph (f)(4) requires the employer to develop and implement safe work practices that provide for the control of hazards during operations such as lockout/tagout; confined space entry; opening process equipment or piping; and control over entrance into a facility by maintenance, contractor, laboratory, or other support personnel. These safe practices apply to both employees and contractor employees.

(G) Training (Initial, Refresher, and Documentation) (paragraphs (g)(1)-(g)(3)). Paragraph (g)(1) requires employers to train employees before they become involved in operating a newly assigned process. The training shall emphasize specific safety and health hazards; emergency operations, including shutdown; and safe work practices applicable to the employee's job tasks. Paragraph (g)(2) requires that the employer provide refresher training at least every 3 years. Paragraph (g)(3) requires the employer to prepare a record that contains the name of employee, the date of training, and the means used to verify that the employee understood the training.

(H) Contractors (paragraphs (h)(2)(i)-(h)(2)(iv), (h)(2)(vi), (h)(3)(iii), and (h)(3)(v)). This paragraph imposes collection of information requirements on both employers and on contractors. Paragraph (h)(2)(i) requires employers, when selecting a contractor, to obtain and evaluate information regarding the contract employer's safety performance and programs. Paragraph (h)(2)(ii) requires that the employer inform contract employers of known potential fire, explosion, or toxic release hazards related to the contractor's work and the process. Paragraph (h)(2)(iii) requires that the employer explain to contract employers the applicable provisions of the emergency action plan required by paragraph (n) of 29 CFR 1910.119. Paragraph (h)(2)(iv) requires the employer to develop and implement safe work practices consistent with paragraph (f)(4) of this section, to control the entrance, presence and exit of contract employers and contract employees in covered process areas. Paragraph (h)(2)(vi) requires the employer to maintain a contract employee injury and illness log related to the contractor's work in process areas. Paragraph (h)(3)(iii) requires the contract employer to document: that contract employees have been trained to perform their work practices safely and are knowledgeable about the fire, explosion, and toxic hazards in the workplace; and the identity of the contract employee who received the training, the date of training, and the means used to verify that the employee understood the training. paragraph (h)(3)(v) requires the contractor to advise the employer of any unique hazard presented by the contract employer's work, or any hazards found by the contract employer's work.

(I) Written Procedures, Inspections, and Testing (paragraphs (j)(2) and (j)(4)(iv)). Paragraph (j)(2) requires the employer to establish written procedures to maintain the ongoing integrity of process equipment. Paragraph (j)(4)(iv) requires that employers document inspections and tests performed on process equipment. The documentation shall identify the date of the inspection or test, the name of the person who performed the inspection or test, the serial number or other identifier of the equipment on which the inspection or test was performed, a description of the inspection or test performed, and the results of the inspection or test.

(J) Hot Work Permit (paragraph (k)(2)). Paragraph (k)(2) requires the employer to provide the following information on permits issued for hot work operations conducted on or near a covered process: The date(s) authorized for hot work, and the identity of the object on which hot work is to be performed. The permit must be kept on file until completion of the hot work operations.

(K) Management of Change (paragraphs (l)(1), (l)(4), and (l)(5)). Paragraph (I)(1) requires the employer to establish and implement written procedures to manage changes (except for “replacements in kind”) to process chemicals, technology, equipment, and procedures; and for changes to facilities that affect a covered process. Paragraph (1)(4) requires the employer to update the information in paragraph (d) of the Standard if a change in paragraph (1) results in a change to the process safety information. Similarly, paragraph (1)(5) requires the employer to update the information in paragraph (f) of the Standard if a change in paragraph (1) results in a change to the operating procedures.

(L) Incident Investigations (paragraphs (m)(4)-(m)(7)). Paragraph (m)(4) requires that a report be prepared at the conclusion of any incident investigation, and that the report include, at a minimum, the date of the incident; the date the investigation began; a description of the incident; the factors that contributed to the incident; and any recommendations resulting from the investigation. Paragraph (m)(5) specifies that the employer must document resolutions and corrective measures taken with regard to the findings and recommendations provided in an incident investigation report, while paragraph (m)(6) states that the employer must allow affected personnel (including contract employees), whose job tasks are relevant to the incident findings, to review the report. Paragraph (m)(7) requires that incident investigation reports be retained for 5 years.

(M) Emergency Planning and Response (paragraph (n)). Paragraph (n) requires the employer to establish and implement an emergency action plan in accordance with the provisions of 29 CFR 1910.38(a). In addition, the emergency action plan shall include procedures for handling small releases.

(N) Compliance Audits (paragraph (o)(1) and (o)(3)-(o)(5)). Under paragraph (o)(1), employers are required to certify that they have evaluated compliance with the provisions of this section at least every 3 years to ensure that the procedures and practices developed under the standard are adequate and are being followed. Paragraph (o)(3) requires that a report of the audit findings be developed, while paragraph (o)(4) states that the employer must promptly determine and document an appropriate response to each of the findings of the compliance audit, and document that the deficiencies have been corrected. Paragraph (o)(5) requires that the 2 most recent reports be retained.

(O) Records Disclosure. Employers must disclose records required by the Standard to an OSHA compliance officer during an OSHA inspection.

II. Special Issues for Comment

OSHA has a particular interest in comments on the following issues:

• Whether the proposed information collection requirements are necessary for the proper performance of the Agency's functions, including whether the information is useful;

• The accuracy of OSHA's estimate of the burden (time and costs) of the information collection requirements, including the validity of the methodology and assumptions used;

• The quality, utility, and clarity of the information collected; and

• Ways to minimize the burden on employers who must comply; for example, by using automated or other technological information collection and transmission techniques.

III. Proposed Actions

OSHA is requesting OMB to extend their approval of the collection of information requirements contained in the Process Safety Management Standard. The Agency is requesting a decrease in burden hours for the existing collection of information requirements from 50,980,689 to 47,832,349 (a total reduction of 3,148,340 hours). The Agency will summarize the comments submitted in response to this notice, and will include this summary in its request to OMB.

Type of Review: Extension of currently approved information collection requirements.

Title: Process Safety Management of Highly Hazardous Chemicals (29 CFR 1910.119).

OMB Number: 1218-0200.

Affected Public: Business or other for-profits; Not-for-profit organizations; Federal Government; State, local or tribal government.

Number of Respondents: 37,970.

Frequency: On occasion.

Average Time per Response: Varies from three minutes to generate and maintain training certification records to 2,454.4 hours to establish and implement a management-of-change program.

Estimated Total Burden Hours: 47,832,349.

Estimated Cost (Operation and Maintenance): $0.

IV. Public Participation—Submission of Comments on this Notice and Internet Access to Comments and Submissions

You may submit comments and supporting materials in response to this notice by (1) hard copy, (2) FAX transmission (facsimile), or (3) electronically through the OSHA Web page. Because of security-related problems, there may be a significant delay in the receipt of comments by regular mail. Please contact the OSHA Docket Officer at (202) 693-2350 (TTY (877) 889-5627) for information about security procedures concerning the deliver of submissions by express delivery, hand delivery, and courier service.

All comments, submissions, and background documents are available for inspection and copying at the OSHA Docket Office at the above address. Comments and submissions posted on OSHA's Web page are available at http://www.OSHA.gov. Contact the OSHA Docket Office for information about materials not available through the OSHA Web page and for assistance using the Web page to locate docket submissions.

Electronic copies of this Federal Register notice as well as other relevant documents are available on OSHA's Web page. Since all submissions become public, private information such as social security number should not be submitted.

V. Authority and Signature

Jonathan L. Snare, Acting Assistant Secretary of Labor for Occupational Safety and Health, directed the preparation of this notice. The authority for this notice is the Paperwork Reduction Act of 1995 (44 U.S.C. 3506 et seq.) and Secretary of Labor's Order No. 5-2002 (67 FR 65008).

Signed at Washington, DC, on January 25, 2006.
Jonathan L. Snare,
Acting Assistant Secretary of Labor.

[FR Doc. 06-844 Filed 1-27-06; 8:45 am]

BILLING CODE 4510-26-M